DEPARTMENT OF HOMELAND SECURITY

[Docket No. DHS-2007-0059]

Homeland Security Science and Technology Advisory Committee

AGENCY: Science and Technology Directorate.

ACTION: Committee Management; Notice of Closed Federal Advisory Committee Meeting.

SUMMARY: The Homeland Security Science and Technology Advisory Committee will meet August 27-29, 2007, at the Naval War College in Newport, RI. The meeting will be closed to the public.

DATES: The Homeland Security Science and Technology Advisory Committee will meet August 27, 2007, from 9 a.m. to 4 p.m.; on August 28, 2007, from 9 a.m. to 4 p.m.; and on August 29, 2007, from 9 a.m. to 3 p.m.

ADDRESSES: The meeting will be held at the Naval War College, 686 Cushing Road, Newport, RI 02841. Requests to have written material distributed to each member of the committee prior to the meeting should reach the contact person at the address below by August 17, 2007. Send written material to Mrs. Deborah Russell, Science and Technology Directorate, Department of Homeland Security, 245 Murray Drive, Bldg. 410, Washington, DC 20528. Comments must be identified by Docket No. DHS-2007-0059 and may be submitted by one of the following methods:

• Federal eRulemaking Portal: http://www.regulations.gov. Follow the instructions for submitting comments.

• E-mail: HSSTAC@dhs.gov. Include the docket number in the subject line of the message.

• Fax: 202-254-6177.

• Mail: Mrs. Deborah Russell, Science and Technology Directorate, Department of Homeland Security, 245 Murray Drive, Bldg. 410, Washington, DC 20528.

Instructions: All submissions received must include the words “Department of Homeland Security” and the docket number for this action. Comments received will be posted without alteration at www.regulations.gov, including any personal information provided.

Docket: For access to the docket to read background documents or comments received by the Homeland Security Science and Technology Advisory Committee, go to http://www.regulations.gov.

FOR FURTHER INFORMATION CONTACT: Mrs. Deborah Russell, Science and Technology Directorate, Department of Homeland Security, 245 Murray Drive, Bldg. 410, Washington, DC 20528 202-253-0231, 202-254-6177.

SUPPLEMENTARY INFORMATION: Notice of this meeting is given under the Federal Advisory Committee Act, 5 U.S.C. App. (Pub. L. 92-463). (Provide information on the committee's purpose.)

The committee will meet for the purpose of receiving sensitive Homeland Security and classified briefings on Improvised Explosive Devices (IEDs) and will discuss the identification and location of IEDs based on experience in UK, Spain, Japan, etc.; countermeasures used in Iraq/Afghanistan and their applicability to U.S. homeland situations; and psychological effects of IEDs.

Basis for Closure: In accordance with Section 10(d) of the Federal Advisory Committee Act, it has been determined that the Science and Technology Advisory Committee meeting concerns sensitive Homeland Security information and classified matters within the meaning of 5 U.S.C. 552b(c)(1) and (c)(9)(B) and that, accordingly, the meeting will be closed to the public.

Jay M. Cohen,
Under Secretary for Science and Technology.

[FR Doc. E7-15821 Filed 8-10-07; 8:45 am]

BILLING CODE 4410-10-P